DEPARTMENT OF AGRICULTURE

Animal and Plant Health Inspection Service

[Docket No. APHIS-2012-0025]

Okanagan Specialty Fruits, Inc.; Availability of Plant Pest Risk Assessment and Environmental Assessment for Determination of Nonregulated Status of Apples Genetically Engineered To Resist Browning

AGENCY: Animal and Plant Health Inspection Service, USDA.

ACTION: Notice; reopening of comment period.

SUMMARY: We are reopening the comment period for our plant pest risk assessment and draft environmental assessment regarding a request from Okanagan Specialty Fruits, Inc., seeking a determination of nonregulated status of apple events designated as events GD743 and GS784, which have been genetically engineered to resist browning. This action will allow interested persons additional time to prepare and submit comments.

DATES: The comment period for the notice published November 8, 2013 (78 FR 67100) is reopened. We will consider all comments that we receive on or before January 30, 2014.

ADDRESSES: You may submit comments by either of the following methods:

• Federal eRulemaking Portal: Go to http://www.regulations.gov/#!docketDetail;D=APHIS-2012-0025.

• Postal Mail/Commercial Delivery: Send your comment to Docket No. APHIS-2012-0025, Regulatory Analysis and Development, PPD, APHIS, Station 3A-03.8, 4700 River Road Unit 118, Riverdale, MD 20737-1238.

Supporting documents and any comments we receive on this docket may be viewed at http://www.regulations.gov/#!docketDetail;D=APHIS-2012-0025 or in our reading room, which is located in Room 1141 of the USDA South Building, 14th Street and Independence Avenue SW., Washington, DC. Normal reading room hours are 8 a.m. to 4:30 p.m., Monday through Friday, except holidays. To be sure someone is there to help you, please call (202) 799-7039 before coming.

Supporting documents are also available on the APHIS Web site at http://www.aphis.usda.gov/biotechnology/petitions_table_pending.shtml under APHIS Petition Number 10-161-01p.

FOR FURTHER INFORMATION CONTACT: Dr. John Turner, Director, Environmental Risk Analysis Programs, Biotechnology Regulatory Services, APHIS, 4700 River Road Unit 147, Riverdale, MD 20737-1236; (301) 851-3954, email: john.t.turner@aphis.usda.gov. To obtain copies of the supporting documents for this petition, contact Ms. Cindy Eck at (301) 851-3892, email: cynthia.a.eck@aphis.usda.gov.

SUPPLEMENTARY INFORMATION: On November 8, 2013, we published in the Federal Register (78 FR 67100-67101, Docket No. APHIS-2012-0025) a notice making available for public comment our plant pest risk assessment and our draft environmental assessment regarding a request from Okanagan Specialty Fruits, Inc., seeking a determination of nonregulated status of apple events designated as events GD743 and GS784, which have been genetically engineered to resist browning.

Comments on the PPRA and draft EA were required to be received on or before December 9, 2013. We are reopening the comment period on Docket No. APHIS-2012-0025 for an additional 30 days. This action will allow interested persons additional time to prepare and submit comments. We will also consider all comments received between December 10, 2013, (the day after the close of the original comment period) and the date of this notice.

Authority: 7 U.S.C. 7701-7772 and 7781-7786; 31 U.S.C. 9701; 7 CFR 2.22, 2.80, and 371.3.

Done in Washington, DC, this 20th day of December 2013.
Kevin Shea,
Administrator, Animal and Plant Health Inspection Service.

[FR Doc. 2013-31145 Filed 12-30-13; 8:45 am]

BILLING CODE 3410-34-P